DEPARTMENT OF DEFENSE

Department of the Army

Army Science Board; Notice of Open Meeting

In accordance with Section 10(a)(2) of the Federal Advisory Committee Act (Pub. L. 92-463), announcement is made of the following Committee Meeting:

Name of Committee: Army Science Board (ASB).

Date(s) of Meeting: 14-16 January 2003.

Time(s) of Meeting: 0800-1700, 14 January 2003, 0800-1700, 15 January 2003, 0800-1700, 16 January 2003.

Place: The Hilton Hotel, Crystal City, VA.

Agenda: The FCS Summer Study Plenary Session of the Army Science Board is holding a meeting on 14-16 January 2002. The meeting will be held at The Hilton Hotel, 2399 Jefferson Davis Highway, Arlington, VA 22202. The meeting will begin at 0800 hrs on the 14th and will end at approximately 1600 hrs on the 16th. For further information, please contact: Major Bob Grier—703-604-7478 or e-mail robert.grier@saalt.army.mil.

Wayne Joyner,
Program Support Specialist, Army Science Board.

[FR Doc. 03-145 Filed 1-3-03; 8:45 am]

BILLING CODE 3710-08-M